DEPARTMENT OF THE INTERIOR

National Park Service

Draft Environmental Impact Statement on a Denali Park Road Vehicle Management Plan for Denali National Park and Preserve

AGENCY: National Park Service, Interior.

ACTION: Notice of availability of the Draft Environmental Impact Statement on a Denali Park Road Vehicle Management Plan for Denali National Park and Preserve.

SUMMARY: The National Park Service announces the availability of a Draft Environmental Impact Statement (DEIS) on a Denali Park Road Vehicle Management Plan for Denali National Park and Preserve. The document describes and analyzes the environmental impacts of a no action alternative and two action alternatives for management of vehicle use on the Denali Park Road. This notice announces the public comment period, the locations of public meetings, and solicits comments on the DEIS.

DATES: Comments on the DEIS must be received no later than September 30, 2011.

ADDRESSES: Written comments on the DEIS should be submitted to Miriam Valentine, Park Planner, Denali National Park and Preserve, P.O. Box 588, Talkeetna, AK 99676.

Submit comments electronically through the NPS Planning, Environment and Public Comment system (PEPC) at http://parkplanning.nps.gov. The DEIS may be viewed and retrieved at this Web site as well. Hard copies of the DEIS are available by request from the aforementioned address. See Supplementary Information for the locations of public meetings.

FOR FURTHER INFORMATION CONTACT: Miriam Valentine, Park Planner, Denali National Park and Preserve, miriam_valentine@nps.gov, Telephone: 907-733-9102.

SUPPLEMENTARY INFORMATION: The purpose of the DEIS is to analyze the effects of the alternatives for managing vehicle use along the Park Road in Denali National Park. Since the mid-1920s, visitors have been able to travel the approximately 90-mile Park Road on buses operated by the park concessioner. Starting in 1972, when private vehicle traffic was restricted beyond mile 15 of the road, visitors have used the mandatory visitor transportation system. The present approach for managing vehicles on the Park Road is based on the park's 1986 general management plan, which established a seasonal limit of 10,512 vehicles beyond mile 15 between approximately Memorial Day and a week after Labor Day. As tourism in Alaska has increased, so have demands for visits along the Park Road. This plan evaluates how to manage vehicle use, while continuing to provide high quality visitor experience, opportunities to view wildlife in natural habitats and to access the park's wilderness. The Denali Park Road Vehicle Management Plan is intended to guide park managers over the next 20 years with management of vehicles on the Park Road. The DEIS considers a reasonable range of alternatives based on management objectives, park resources and values, and public input.

Alternative A: (No Action): This alternative would continue current management of vehicle use on the Park Road. In addition to a seasonal limit of 10,512 vehicles past mile 15, there would continue to be specific seasonal and daily limits to tour buses, shuttle buses, inholder traffic, professional photographer vehicles, NPS administrative vehicles and other categories of vehicles.

Alternative B: This alternative would use an adaptive management framework for vehicle use based on indicators and standards for visitor experiences and resource protection. While adhering to these standards, management would maximize seating on all transit and tour vehicles to offer the largest number of visitors the opportunity to travel the Park Road. This adaptive management framework would include options for reducing or scheduling non-bus traffic to allow for additional visitor use.

Alternative C: This alternative would use an adaptive management framework for vehicle use based on indicators and standards for visitor experiences and resource protection. While adhering to these standards, management would promote a wide variety of visitor opportunities that would include brief experiences in the park's entrance area, short visits along segments of the Park Road, special interest tours, and multiday experiences in the park's backcountry. This adaptive management framework would include options for reducing or scheduling non-bus traffic to allow for additional visitor use.

At this time, the NPS does not have a preferred alternative, and public comment is sought to inform selection of a preferred alternative in the final EIS.

Public meetings are scheduled in Alaska at the following locations: Anchorage, Fairbanks, and Denali National Park. The specific dates and times of the public meetings will be announced in local media.

If you include your address, phone number, e-mail address, or other personal identifying information in your comment, you should be aware that your entire comment—including your personal identifying information—may be made publicly available at any time. While you can ask us in your comment to withhold your personal identifying information from public review, we cannot guarantee that we will be able to do so.

Dated: May 6, 2011.
Sue E. Masica,
Regional Director, Alaska.

[FR Doc. 2011-19310 Filed 7-29-11; 8:45 am]

BILLING CODE 4310-PF-P